DEPARTMENT OF HEALTH AND HUMAN SERVICES

Administration for Community Living

Final Priority; National Institute on Disability, Independent Living, and Rehabilitation Research—Rehabilitation Research and Training Centers

AGENCY: Administration for Community Living, Department of Health and Human Services.

ACTION: Final priority.

CFDA Number: 84.133B-4.

SUMMARY: The Administrator of the Administration for Community Living announces a priority for the Rehabilitation Research and Training Center (RRTC) Program administered by the National Institute on Disability, Independent Living, and Rehabilitation Research (NIDILRR). Specifically, we announce a priority for an RRTC on Self-Directed Care to Promote Recovery, Health, and Wellness for Individuals with Serious Mental Illness (SMI). The Administrator of the Administration for Community Living may use this priority for competitions in fiscal year (FY) 2015 and later years. We take this action to focus research attention on an area of national need. We intend for this priority to contribute to improved health and wellness for individuals with serious mental illness.

Note: On July 22, 2014, President Obama signed the Workforce Innovation Opportunity Act (WIOA). WIOA was effective immediately. One provision of WIOA transferred the National Institute on Disability and Rehabilitation Research (NIDRR) from the Department of Education to the Administration for Community Living (ACL) in the Department of Health and Human Services. In addition, NIDRR's name was changed to the National Institute on Disability, Independent Living, and Rehabilitation Research (NIDILRR). Because of HHS policy, there are changes in the way that NIDILRR will award and oversee grants that are made with funds from NIDILRR and other agencies. These changes apply for this priority because SAMHSA's Center for Mental Health Services provides funding for activities carried out under the award. These changes are reflected in the final notice, the Notice Inviting Applications, and the grant application kit.

DATES: Effective Date: This priority is effective July 27, 2015.

FOR FURTHER INFORMATION CONTACT: Marlene Spencer, U.S. Department of Health And Human Services, 400 Maryland Avenue SW., Room 5133, Potomac Center Plaza (PCP), Washington, DC 20202-2700. Telephone: (202) 245-7532 or by email: marlene.spencer@acl.hhs.gov.

If you use a telecommunications device for the deaf (TDD) or a text telephone (TTY), call the Federal Relay Service (FRS), toll free, at 1-800-877-8339.

SUPPLEMENTARY INFORMATION: Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas as specified by NIDILRR. These activities are designed to benefit rehabilitation service providers, individuals with disabilities, family members, policymakers and other research stakeholders. Additional information on the RRTC program can be found at: http://www2.ed.gov/programs/rrtc/index.html#types.

Program Authority: 29 U.S.C. 762(g) and 764(b)(2)(A).

Applicable Program Regulations: 34 CFR part 350.

We published a notice of proposed priority (NPP) for this program in the Federal Register on February 25, 2015 (80 FR 10099). That notice contained background information and our reasons for proposing the particular priority.

Public Comment: Eight parties submitted wholly supportive comments in response to our invitation in the notice of proposed priority.

Analysis of the Comments and Changes: An analysis of the comments and of any changes in the priority since publication of the NPP follows.

Agency Requirement: SAMHSA/CMHS funds for this Center must be applied to clearly defined tasks and must be tracked separately by the grantee. In addition, the grantee must provide separate reports for activities carried out with NIDILRR and SAMHSA/CMHS funds. In addition to funding for training, technical assistance, and knowledge translation, CMHS funds can be applied to evaluative studies but not to research projects.

Discussion: Details on the necessary changes to the application process will be spelled out in the application kit.

Changes: Evaluative studies has been added to the priority requirements.

Final Priority

The Administrator of the Administration for Community Living establishes a priority for the RRTC on Self-Directed Care to Promote Recovery, Health, and Wellness for Individuals with Serious Mental Illness (SMI). This RRTC will also support activities funded by the Center for Mental Health Services, of the Substance Abuse and Mental Health Services Administration. The RRTC will conduct research and evaluative studies to develop, adapt, and enhance self-directed models of general medical, mental health, and nonmedical services that are designed to improve health, recovery, and employment outcomes for individuals with serious mental illness. The RRTC must conduct research, evaluative studies, knowledge translation, training, dissemination, and technical assistance within a framework of consumer-directed services and self-management. Evaluative studies conducted by this RRTC will focus on existing programs or services; research studies will generate new knowledge, generalizable to the relevant target population(s). Under this priority, the RRTC must contribute to the following outcomes:

(1) Increased knowledge that can be used to enhance the health and well-being of individuals with serious mental illness and co-occurring conditions. The RRTC must contribute to this outcome by:

(a) Conducting research and evaluative studies to develop a better understanding of the barriers to and facilitators of implementing models that integrate general medical and mental health care for individuals with SMI. These models must incorporate self-management and self-direction strategies. The research and evaluative studies must specifically examine models that incorporate peer-provided services and supports along with research-based service integration strategies such as health navigation and care coordination.

(b) Conducting research to identify or develop and then test interventions that use individual budgets or flexible funds to increase consumer choice. The RRTC must design this research to determine the extent to which the consumer-choice intervention improves health outcomes and promotes recovery among individuals living with SMI. In carrying out this activity, the grantee must investigate the applicability of strategies that have proven successful with the general population or other subpopulations to determine if they are effective with individuals with SMI and co-occurring conditions.

(2) Improved employment outcomes among individuals with SMI. The RRTC must contribute to this outcome by:

(a) Conducting research and evaluative studies to develop a better understanding of the barriers to and facilitators of implementing vocational service and support models that incorporate self-management and self-direction features. These features must include self-directed financing and flexible funding of services that support mental health treatment and recovery, general health, and employment. These services may include services and supports not traditionally supplied by mental health or general medical systems.

(3) Increased incorporation of research and evaluative study findings related to SMI, self-directed care, health management, and employment into practice or policy.

(a) Developing, evaluating, or implementing strategies to increase utilization of research or evaluative study findings related to SMI, co-occurring conditions, health management, and employment.

(b) Conducting training, technical assistance, and dissemination activities to increase utilization of research and evaluative study findings related to self-directed care of individuals living with SMI to promote and co-occurring conditions, health management, and employment.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (45 CFR part 75); or (2) selecting an application that meets the priority over an application of comparable merit that does not meet the priority (45 CFR part 75).

Invitational priority: Under an invitational priority, we are particularly interested in applications that meet the priority. However, we do not give an application that meets the priority a preference over other applications(45 CFR part 75).

This notice does not preclude us from proposing additional priorities, requirements, definitions, or selection criteria, subject to meeting applicable rulemaking requirements.

Note: This notice does not solicit applications. In any year in which we choose to use this priority, we invite applications through a notice in the Federal Register.

Electronic Access to This Document: The official version of this document is the document published in the Federal Register. Free Internet access to the official edition of the Federal Register and the Code of Federal Regulations is available via the Federal Digital System at: www.gpo.gov/fdsys. At this site you can view this document, as well as all other documents of ACL published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 22, 2015.
John Tschida,
Director, National Institute on Disability, Independent Living, and Rehabilitation Research.

[FR Doc. 2015-15745 Filed 6-25-15; 8:45 am]

BILLING CODE 4154-01-P